DEPARTMENT OF DEFENSE

Department of the Army

Committee Meeting Notice

AGENCY: United States Army School of the Americas (USARSA), Training and Doctrine Command (TRADOC), U.S. Army, DoD.

ACTION: Notice of meeting.

SUMMARY: In accordance with section 10(a)(2) of the Federal Advisory Committee Act (P.L. 92-463), announcement is made of the following committee meeting:

Name of Committee: USARSA Subcommittee of the Army Education Advisory Committee.

Date of Meeting: 22-24 August 2000.

Place of Meeting: USARSA, Building 35, Fort Benning, Georgia.

Time of Meeting: 0900-1700 on 22 and 23 August, 0900-1200 on 24 August 2000.

FOR FURTHER INFORMATION CONTACT: All communications regarding this subcommittee should be addressed to LTC Bruce T. Gridley, U.S. Army School of the Americas, ATTN: ATZB-SAZ-CS, Ft. Benning, Georgia 31905-6245.

SUPPLEMENTARY INFORMATION: Proposed Agenda: Presentation by the Commanding General, Training and Doctrine Command on the Subcommittee's report of the previous meeting and issues requested from that meeting.

1. Purpose of Meeting: This is the eighth USARSA Subcommittee meeting. The subcommittee will receive a report from the Commander, Training and Doctrine Command, and briefings they requested as a result of the seventh subcommittee meeting.

2. Meeting of the Advisory Committee is open to the public. Due to space limitations, attendance may be limited to those persons who have notified the Committee Management Office in writing at least 5 days prior to the meeting date of their intent to attend.

3. Any member of the public may file a written statement with the committee before, during, or after the meeting. To the extent that time permits, the subcommittee chairman may allow public presentations of oral statements at the meeting.

Gregory D. Showalter,
Army Federal Register Liaison Officer.

[FR Doc. 00-20564 Filed 8-11-00; 8:45 am]

BILLING CODE 3710-08-M